CONSUMER PRODUCT SAFETY COMMISSION

[CPSC Docket No. 06-C0003]

West Bend Housewares, LLC, a Limited Liability Corporation, Provisional Acceptance of a Settlement Agreement and Order

Correction

In notice document 06-4291 beginning on page 26754 in the issue of Monday, May 8, 2006, make the following correction:

On page 26754, in the second column, in the SUMMARY paragraph, in the last line, “$100,000,000” should read “$100,000.00”.

[FR Doc. C6-4291 Filed 5-12-06; 8:45 am]

BILLING CODE 1505-01-D

DEPARTMENT OF HEALTH AND HUMAN SERVICES

Request for Applications for the HIV Prevention Program for Young Women Attending Minority Institutions— Historically Black Colleges and Universities, Hispanic Serving Institutions, and Tribal Colleges and Universities

Correction

In notice document E6-6726 beginning on page 26373 in the issue of Thursday, May 4, 2006, make the following correction:

On page 26373, in the second column, under the “DATES” section, in the last line “May 4, 2006” should read “June 5, 2006”.

[FR Doc. Z6-6726 Filed 5-12-06; 8:45 am]

BILLING CODE 1505-01-D

DEPARTMENT OF THE INTERIOR

Minerals Management Service

30 CFR Part 250

RIN 1010-AC85

Oil and Gas and Sulphur Operations in the Outer Continental Shelf (OCS)—Fixed and Floating Platforms and Structures and Documents Incorporated by Reference

Correction

In rule document 05-14038 beginning on page 41556 in the issue of Tuesday, July 19, 2005, make the following correction:

§ 250.910 [Corrected]

On page 41579, in § 250.910(b), in the table, in the second column, in the last line of entry (2)(i), “riser a ship-shaped tensioning systems” should read “riser tensioning systems”.

[FR Doc. C5-14038 Filed 5-12-06; 8:45 am]

BILLING CODE 1505-01-D